DEPARTMENT OF ENERGY

Memorandum of Understanding Between the Department of Energy and U.S. Fish and Wildlife Service Regarding Implementation of Executive Order 13186, Responsibilities of Federal Agencies to Protect Migratory Birds

AGENCY: Office of Health, Safety and Security, Department of Energy.

ACTION: Notice of Availability.

SUMMARY: The Department of Energy (DOE) is informing the public of the availability of its Memorandum of Understanding (MOU) with the U.S. Fish and Wildlife Service (FWS). The purpose of the MOU is to strengthen migratory bird conservation through enhanced collaboration between DOE and the FWS, in coordination with state, tribal, and local governments. The MOU identifies specific areas in which cooperation between DOE and the FWS will substantially contribute to the conservation and management of migratory birds and their habitats.

ADDRESSES: The MOU is available at http://energy.gov/hss/downloads/memorandum-understanding-responsibilities-federal-agencies-protect-migratory-birds.

FOR FURTHER INFORMATION CONTACT: Jane Powers, Office of Sustainability Support, Office of Health, Safety, and Security, at jane.powers@hq.doe.gov or 202-586-7301 or Josh Silverman, Director, Office of Sustainability Support, Office of Health, Safety, and Security, at josh.silverman@hq.doe.gov or 202-586-6535.

SUPPLEMENTARY INFORMATION: This MOU is pursuant to the Migratory Bird Treaty Act (MBTA) and Executive Order (EO) 13186. The MBTA is the domestic law that affirms the United States' commitment to four international conventions (with Canada, Japan, Mexico, and Russia) for the protection of a shared migratory bird resource. Each of the conventions protect selected species of birds that are common to both countries (i.e., they occur in both countries at some point during their annual life cycle). The MBTA protects migratory birds by governing the taking, killing, possession, transportation, and importation of such birds, their eggs, parts, or nests.

E.O. 13186, Responsibilities of Federal Agencies to Protect Migratory Birds, signed on January 10, 2001, directs Federal agencies to take certain actions to further implement the MBTA and promote the conservation of migratory bird populations. E.O. 13186 outlines Federal agency responsibilities and establishes an interagency Council for the Conservation of Migratory Birds to oversee the implementation of this Order. It requires agencies to avoid or minimize the adverse impact of their actions on migratory birds and ensure that environmental analyses under the National Environmental Policy Act evaluate the effects of proposed Federal actions on such species.

DOE and FWS entered into the first MOU on migratory bird protection in 2006. This updated MOU, signed September 12, 2013, took effect upon signature of DOE and FWS and remains in effect for five years. Section F.9 of the MOU directs DOE to advise the public of this MOU through a notice published in the Federal Register.

Issued in Washington, DC, on November 1, 2013.
Andrew C. Lawrence,
Director, Office of Environmental Protection, Sustainability Support and Corporate Safety Analysis, U.S. Department of Energy.

[FR Doc. 2013-27120 Filed 11-12-13; 8:45 am]

BILLING CODE 6450-01-P